DEPARTMENT OF HOUSING AND URBAN DEVELOPMENT

[Docket No. FR-7080-N-57]

30-Day Notice of Proposed Information Collection; 2025 American Housing Survey; OMB Control No.: 2528-0017

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: January 10, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410.

FOR FURTHER INFORMATION CONTACT: Anna Guido, Reports Management Officer, REE, Department of Housing and Urban Development, 451 7th Street SW, Washington, DC 20410; email Anna.P.Guido@hud.gov or telephone (202) 402-3400. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on September 3, 2024 at 89 FR 71384.

A. Overview of Information Collection

Title of Information Collection: 2025 American Housing Survey.

MB Approval Number: 2528-0017.

Type of Request: Revision of a currently approved collection.

Form Number: N/A.

Description of the need for the information and proposed use:

The purpose of the American Housing Survey (AHS) is to supply the public with detailed and timely information about housing quality, housing costs, and neighborhood assets, in support of effective housing policy, programs, and markets. Title 12, United States Code, Sections 1701Z-1, 1701Z-2(g), and 1710Z-10a mandates the collection of this information.

Increasing field costs and declining response rates have led HUD to adopt a continuous data collection model as opposed to the periodic 5-month data collection every other year. HUD believes continuous data collection will be more effective, primarily because: (1) it eliminates the expensive, time-consuming Regional Office AHS ramp-up costs every two years, and (2) it puts in place a more experienced AHS workforce with a constant workload. An added benefit is that we will be able to increase the frequency of national and metro AHS estimates, allowing for more current estimates and better comparability to other data sources which collect annual data (surveys such as the American Community Survey and key estimates such as homeownership/vacancy rates).

The survey will continue to be longitudinal, interviewing the same housing unit every two years. The sample will be divided into 12 cohorts where each cohort has a 2-month data collection period. Data collection will begin May 2025.

In addition to the “core” data, HUD plans to collect supplemental data on climate risk and insurance, arts and culture, home accessibility, accessory dwelling units, and housing costs roster. Additionally wording variations related to sexual orientation and gender will be tested in support of the American Community Survey Content Test.

The 2025 survey will begin a new longitudinal sample consisting of approximately 175,000 housing units. The sample is designed to provide estimates twenty metropolitan areas and at least seventeen states. An oversample of HUD-assisted housing units is included in the sample design. For the first survey cycle (2025-26) a bridge sample will be fielded. The bridge sample will be drawn from housing units that were successfully interviewed in 2023.

The bridge sample serves as an evaluation tool. If something unforeseen were to happen with the 2025 sample, the estimates from the bridge sample can measure what the 2025 estimates would have looked like if we had not redesigned the AHS sample. The bridge sample size will be 8,500. Approximately seven percent of all interviews will be reinterviewed for the purpose of interviewer quality control (an estimated total of 12,845 housing units).

To help reduce respondent burden on households in the longitudinal sample, the 2025 AHS will make use of dependent interviewing techniques, which will decrease the number of questions asked. Policy analysts, program managers, budget analysts, and Congressional staff use AHS data to advise executive and legislative branches about housing conditions and the suitability of public policy initiatives. Academic researchers and private organizations also use AHS data in efforts of specific interest and concern to their respective communities.

The Department of Housing and Urban Development (HUD) needs the AHS data for the following two reasons:

1. With the data, policy analysts can monitor the interaction among housing needs, demand and supply, as well as changes in housing conditions and costs, to aid in the development of housing policies and the design of housing programs appropriate for different target groups, such as first-time home buyers and the elderly.

2. With the data, HUD can evaluate, monitor, and design HUD programs to improve efficiency and effectiveness.

HUD received two comments.

The first, from the Pine Street Inn, a nonprofit organization that provides resources and support to the homeless population in the greater Boston area. The organization expressed strong support for the proposed changes to the American Housing Survey data collection process and commented that “data regarding the country's current housing crisis, including the physical condition of homes and neighborhoods, the cost of financing and maintaining homes, and the characteristics of households, is of great importance to our organization.” HUD appreciates the Pine Street Inn's comments and support of the proposed changes for the 2025 AHS.

The second, from Manufactured Housing Institute (MHI), expressed support for the change to continuous data collection, stating “MHI collects and analyzes information to produce research publications on a near real-time basis. MHI relies on reliable up-to-date information to do so. Therefore, a continuous data collection process would be more accurate and improve MHI's capabilities in this area.” MHI also asked for clarification on the intervals for release of data and if the releases would be annual or even monthly. HUD appreciates the Manufactured Housing Institute's comments and support of the proposed changes for the 2025 AHS. Currently, HUD plans to release annual and biennial PUF data products. The biennial file will produce two-year estimates, similar to an average of two consecutive annual estimates.

Information collection | Number of respondents | Frequency of response | Responses per annum | Burden hour per response | Annual burden hours | Hourly cost per response | Annual cost
Occupied Interviews | 59,500 | 1 | 59,500 | 0.75 | 44,625 | 23.11 | $1,031,283.75
Vacant Interviews | 8,750 | 1 | 8,750 | 0.08 | 700 | 23.11 | 16,177.00
Non-interviews | 16,625 | 1 | 16,625 | 0 | 0 | 23.11 | 0
Ineligible | 2,625 | 1 | 2,625 | 0 | 0 | 23.11 | 0
Subtotal | 87,500 | 1 | 87,500 |  | 45,325.00 |  | 1,047,460.75
Reinterviews | 6,423 | 1 | 6,423 | 0.17 | 1,091.91 | 23.11 | 25,234.04
Total | 93,923 | 1 | 93,923 |  | 46,416.91 |  | 1,072,694.79

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2024-29094 Filed 12-10-24; 8:45 am]

BILLING CODE 4210-67-P